DEPARTMENT OF TRANSPORTATION

Coast Guard

33 CFR Part 117

[CGD01-02-077]

Drawbridge Operation Regulations: Hackensack River, NJ

AGENCY: Coast Guard, DOT.

ACTION: Notice of temporary deviation from regulations.

SUMMARY: The Commander, First Coast Guard District, has issued a temporary deviation from the drawbridge operation regulations governing the operation of the Route 1 & 9 Bridge, at mile 1.8, across the Hackensack River in New Jersey. This deviation allows the bridge owner to require a two-hour advance notice for bridge openings from July 12, 2002 through September 9, 2002. This action is necessary to facilitate scheduled bridge maintenance.

DATES: This deviation is effective from July 12, 2002 through September 9, 2002.

FOR FURTHER INFORMATION CONTACT: Mr. Joe Arca, Project Officer, First Coast Guard District, at (212) 668-7165.

SUPPLEMENTARY INFORMATION: The Route 1 & 9 Bridge has a vertical clearance of 35 feet at mean high water, and 40 feet at mean low water in the closed position. The existing drawbridge operating regulations require the bridge to open on signal at all times.

The bridge owner, New Jersey Department of Transportation, requested a temporary deviation from the drawbridge operating regulations to facilitate scheduled structural maintenance, on the bridge.

This deviation from the operating regulations allows the bridge owner to require a two-hour advance notice for bridge openings from July 12, 2002 through September 9, 2002.

This deviation from the operating regulations is authorized under 33 CFR 117.35, and this work will be performed with all due speed in order to return the bridge to normal operation as soon as possible.

Dated: July 16, 2002.
V.S. Crea,
Rear Admiral, Coast Guard, Commander, First Coast Guard District.

[FR Doc. 02-18924 Filed 7-25-02; 8:45 am]

BILLING CODE 4910-15-P